DEPARTMENT OF TRANSPORTATION

Federal Aviation Administration

[Docket No. FAA-2022-0455]

Agency Information Collection Activities: Requests for Comments; Clearance of a Renewed Approval of Information Collection: Certification of Airmen for the Operation of Light-Sport Aircraft

AGENCY: Federal Aviation Administration (FAA), DOT.

ACTION: Notice and request for comments.

SUMMARY: In accordance with the Paperwork Reduction Act of 1995, FAA invites public comments about our intention to request Office of Management and Budget (OMB) approval to renew an information collection. This collection involves the submission of forms and other reporting and recordkeeping activities. The information to be collected is necessary to ensure compliance with regulations governing the manufacture and certification of light-sport aircraft, the training and certification of light-sport pilots and instructors, and the certification of light-sport aircraft Designated Pilot Examiners.

DATES: Written comments should be submitted by June 6, 2022.

ADDRESSES: Please send written comments:

By Electronic Docket: www.regulations.gov (Enter docket number into search field).

By mail: Dwayne C. Morris, 800 Independence Ave. SW, Washington, DC 20591.

By email: chris.morris@faa.gov.

FOR FURTHER INFORMATION CONTACT: Craig Holmes by email at: craig.holmes@faa.gov; phone: 202-267-1607.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0690.

Title: Certification of Airmen for the Operation of Light-Sport Aircraft.

Form Numbers: FAA form 8130-15, 8710-11, 8710-12.

Type of Review: Renewal.

Background: This information collection requires applicants for certification as sport pilots to complete FAA form 8710-11, log training, take and pass a knowledge test, and requires organizations to develop and maintain training courses for sport pilots. The total of sport pilot applicants is estimated to be 500, with a burden of 3,400 hours. In addition, applications for certification as sport pilot instructors are required to take and pass a knowledge test, submit to a flight review, and purchase a training course. This affects an estimated 40 applicants, with a total annual burden of 120 hours.

This collection also requires light-sport aircraft owners and manufacturers to submit FAA form 8130-15, which is used to process an applicant's request to obtain a Special Airworthiness certificate for Light Sport Aircraft. FAA Airworthiness inspectors and designated inspectors review the required data submissions to determine that aviation products and their manufacturing facilities comply with ASTM requirements, and that the products have no unsafe features. The FAA estimates that approximately 297 respondents are required to complete FAA form 8130-15, with a total annual burden of 99 hours.

Finally, this collection requires applicants for the authorities and privileges of Designated Pilot Examiners to submit FAA form 8710-12, Light-Sport Standardization Board-Designated Pilot Examiner Candidate Application. The FAA uses the form to obtain essential information concerning the applicants' professional and personal qualifications, and to screen and select the designees who act as representatives of the Administrator in performing various certification and examination functions. The FAA estimates a total of 20 respondents per year, with a total annual burden of 10 hours.

Respondents: Manufacturers, aircraft owners, pilots, flight instructors with a sport pilot rating, and maintenance personnel.

Frequency: On occasion.

Estimated Average Burden per Response: Applicants for certification as sport pilots: 500 applicants; approximately 7 hours per applicant. Applicants for certification as sport pilot instructors: 40 applicants; approximately 3 hours per applicant. Applicants for Special Airworthiness Certificate for Light-Sport Aircraft: 297 applicants; approximately ⅓ hour per response. Applicants for certification as Designated Pilot Examiners: 20 applicants; approximately ½ hour per response.

Estimated Total Annual Burden: Sport pilot applicants: 3,400 hours. Sport pilot instructor applicants: 120 hours. Special Light-Sport Airworthiness certification applicants: 99 hours. Designated Pilot Examiner applicants: 10 hours. Total burden: 3,629.

Issued in Washington, DC, on April 1, 2022.
Dwayne C. Morris,
Project Manager, Flight Standards Service, General Aviation and Commercial Division.

[FR Doc. 2022-07332 Filed 4-6-22; 8:45 am]

BILLING CODE 4910-13-P